DEPARTMENT OF HOMELAND SECURITY

Coast Guard

33 CFR Part 165

[Docket No. USCG-2009-0317]

RIN 1625-AA87

Security Zone; Calcasieu River and Ship Channel, LA

AGENCY: Coast Guard, DHS.

ACTION: Final rule.

SUMMARY: The Coast Guard is disestablishing the permanent safety zone at Trunkline LNG in Lake Charles, LA and replacing it with a security zone with new boundaries. The Coast Guard is also establishing two additional permanent security zones on the waters of the Calcasieu River for the mooring basins at Cameron LNG in Hackberry, LA and PPG Industries in Lake Charles, LA. The Coast Guard is also disestablishing the Calcasieu River ship channel moving safety zone and replacing it with a moving security zone. The revised moving security zone extends channel edge to channel edge on the Calcasieu Channel and shoreline to shoreline on the Calcasieu River, 2 miles ahead and 1 mile astern of certain designated vessels while in transit on the Calcasieu Channel or Calcasieu River. Meeting, crossing or overtaking situations are not permitted within the security zone unless specifically authorized by the Captain of the Port. The moving security zone may commence at any point while certain vessels are transiting the Calcasieu Channel or Calcasieu River on U.S. territorial waters (12 nautical miles) in the Captain of the Port (COTP) Port Arthur zone. These security zones are needed to protect vessels, waterfront facilities, the public, and other surrounding areas from destruction, loss, or injury caused by sabotage, subversive acts, accidents, or other actions of a similar nature. Unless exempted under this rule, entry into or movement within these security zones is prohibited without permission from the Captain of the Port or a designated representative.

DATES: This rule is effective May 13, 2010.

ADDRESSES: Comments and material received from the public, as well as documents mentioned in this preamble as being available in the docket, are part of docket USCG-2009-0317 and are available online by going to http://www.regulations.gov, inserting USCG-2009-0317 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Scott Whalen, Marine Safety Unit Port Arthur, TX, telephone (409) 719-5086, or e-mail scott.k.whalen@uscg.mil. If you have questions on viewing the docket, call Renee V. Wright, Program Manager, Docket Operations, telephone 202-366-9826.

SUPPLEMENTARY INFORMATION:

Regulatory Information

On September 8, 2009, we published a notice of proposed rulemaking (NPRM) entitled “Security Zone; Calcasieu River and Ship Channel, LA” in the Federal Register (74 FR 46040). We received 2 comments on the proposed rule. No public meeting was requested and none was held.

Background and Purpose

Heightened awareness of potential terrorist acts requires enhanced security of our ports, harbors, and vessels.

This rule establishes new, distinct security zones on the waters of the Calcasieu River. These zones will protect waterfront facilities, persons, and vessels from subversive or terrorist acts. This rule also eliminates the moving safety zone for non-gas free LNGs transiting the Calcasieu Channel and Calcasieu River and adds a distinct moving security zone that may commence at any point while certain vessels are transiting the Calcasieu Channel or Calcasieu River on U.S. territorial waters in the Captain of the Port, Port Arthur zone. Due to the potential for terrorist attacks, this rule allows the Captain of the Port to create moving security zones around certain vessels as deemed necessary, on a case-by-case basis. By limiting access to these areas, the Coast Guard is reducing potential methods of attack on these vessels, and potential use of the vessels to launch attacks on waterfront facilities and adjacent population centers located within the Captain of the Port zone. Vessels having a need to enter these security zones must obtain express permission from the Captain of the Port, Port Arthur or a designated representative prior to entry.

These zones are in an area concentrated with commercial facilities considered critical to national security. This rule does not restrict access to vessels engaged, or assisting in commerce with waterfront facilities within fixed security zones, vessels operated by port authorities, vessels operated by waterfront facilities within the fixed security zones, and vessels operated by federal, state, county or municipal agencies. By limiting access to these areas the Coast Guard is reducing potential methods of attack on vessels, waterfront facilities, and adjacent population centers located within the zones. Vessels not exempted under the provisions of this regulation and desiring to enter these zones are required to obtain permission from the Captain of the Port, Port Arthur or a designated representative prior to entry.

Discussion of Comments and Changes

The Coast Guard received two comments concerning the NPRM. One commenter recommended that the boundaries of the proposed security zone at PPG Industries (PPG) be extended to include the transfer dock located at the southern end of PPG properties and all shoreline. The Coast Guard concurs in part with this comment and is modifying the security zone to include the southern-most transfer dock, but will minimize the impact on mariners by having the security zone encompass waters within 100 feet of the shoreline between the originally proposed security zone and the southern transfer dock area.

Another commenter recommended adding language specifying the agency responsible for enforcement of this security zone. The Coast Guard is the agency responsible for enforcement of this security zone. The proposed language expressly states that permission of the Captain of the Port, Port Arthur must be obtained to enter the security zone and future memoranda of agreements may allow state or local agencies to assist the Coast Guard in enforcing this security zone.

The Coast Guard is making a change to the language of the NPRM to provide the public with a visual cue that the moving safety zone is in effect. Specifically, the final rule states that “Coast Guard patrol assets will be on scene with flashing blue lights energized when the moving security zones are in effect.”

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. The basis of this finding is that the fixed security zones are not part of the navigable waterway or a commercial fishing ground and do not impede commercial traffic on the Calcasieu Waterway. The moving security zone is limited in nature and will not create undue delay to vessel traffic in or around the Calcasieu River and Ship Channel.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities for the following reasons: (1) The rules for fixed security zones do not interfere with regular vessel traffic within the Calcasieu Ship Channel, Calcasieu River or the Intracoastal Waterway; (2) the rule for moving security zones are of limited duration and vessels may be allowed to pass through the zone with the permission of the Captain of the Port or his representative.

Assistance for Small Entities

Under section 213(a) of the Small Business Regulatory Enforcement Fairness Act of 1996 (Pub. L. 104-121), in the NPRM we offered to assist small entities in understanding the rule so that they could better evaluate its effects on them and participate in the rulemaking process.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA)(42 U.S.C. 4321-4370f), and have concluded this action is one of a category of actions which do not individually or cumulatively have a significant effect on the human environment. This rule is categorically excluded, under figure 2-1, paragraph (34)(g), of the Instruction. This rule involves security of certain vessels and facilities and is not expected to result in any significant adverse environmental impact as described in NEPA.

An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Revise § 165.805 to read as follows:

§ 165.805 Security Zones; Calcasieu River and Ship Channel, Louisiana.

(a) Location. (1) The following areas are designated as fixed security zones (all coordinates are based upon North American Datum of 1983 [NAD 83]):

(i) Trunkline LNG basin. All waters encompassed by a line connecting the following points, beginning at 30°06′36″ N, 93°17′36″ W, south to a point 30°06′33″ N, 93°17′36″ W, east to a point 30°06′30″ N, 93°17′02″ W, north to a point 30°06′33″ N, 93°17′01″ W, then tracing the shoreline along the water's edge to the point of origin.

(ii) Cameron LNG basin. All waters encompassed by a line connecting the following points, beginning at 30°02′33″ N, 093°19′53″ W, east to a point at 30°02′34″ N, 093°19′50″ W, south to a point at 30°02′10″ N, 093°19′52″ W and west to a point at 30°02′10″ N, 93°19′59″ W, then tracing the shoreline along the water's edge to the point of origin.

(iii) PPG Industries basin. All waters encompassed by a line connecting the following points: Beginning at 30°13′29″ N, 93°16′34″ W, southwest to a point at 30°13′11″ N, 93°16′51″ W, then proceeding southerly following 100 feet off the shoreline to a point at 30°12′57.2″ N, 93°16′53.2″ W, then east to a point at 30°12′57.2″ N, 93°16′50.6″ W then southerly to a point at 30°12′47.7″ N, 93°16′50.3″ W then west to the shoreline and then following along the water's edge to the point of origin.

(2) The following areas are moving security zones: All waters within the Captain of the Port, Port Arthur zone commencing at U.S. territorial waters and extending channel edge to channel edge on the Calcasieu Channel and shoreline to shoreline on the Calcasieu River, 2 miles ahead and 1 mile astern of certain designated vessels while in transit. Meeting, crossing or overtaking situations are not permitted within the security zone unless specifically authorized by the Captain of the Port. Coast Guard patrol assets will be on scene with flashing blue lights energized when the moving security zones are in effect.

(b) Regulations. (1) Entry into or remaining in a fixed zone described in paragraph (a)(1) of this section is prohibited for all vessels except:

(i) Commercial vessels operating at waterfront facilities within these zones;

(ii) Commercial vessels transiting directly to or from waterfront facilities within these zones;

(iii) Vessels providing direct operational or logistical support to commercial vessels within these zones;

(iv) Vessels operated by the appropriate port authority or by facilities located within these zones; and

(v) Vessels operated by federal, state, county, or municipal agencies.

(2) Entry into or remaining in moving zones described in paragraph (a)(2) of this section is prohibited for all vessels except:

(i) Moored vessels or vessels anchored in a designated anchorage area. A moored or an anchored vessel in a security zone described in paragraph (a)(2) of this section must remain moored or anchored unless it obtains permission from the Captain of the Port to do otherwise;

(ii) Commercial vessels operating at waterfront facilities located within the zone;

(iii) Vessels providing direct operational support to commercial vessels within a moving security zone;

(iv) Vessels operated by federal, state, county, or municipal agencies.

(3) Other persons or vessels requiring entry into security zones described in this section must request permission from the Captain of the Port, Port Arthur or designated representatives.

(4) To request permission as required by these regulations, contact Marine Safety Unit Lake Charles at (337) 491-7800 or the on scene patrol vessel.

(5) All persons and vessels within a security zone described in this section must comply with the instructions of the Captain of the Port, Port Arthur, designated on-scene U.S. Coast Guard patrol personnel or other designated representatives. On-scene U.S. Coast Guard patrol personnel include commissioned, warrant, and petty officers of the U.S. Coast Guard. Designated representatives include federal, state, local and municipal law enforcement agencies.

(c) Informational Broadcasts: The Captain of the Port, Port Arthur will inform the public when moving security zones have been established around vessels via Broadcast Notices to Mariners and written notice provided by escort vessels.

Dated: March 12, 2010.
J.J. Plunkett,
Captain, U.S. Coast Guard, Captain of the Port, Port Arthur.

[FR Doc. 2010-8375 Filed 4-12-10; 8:45 am]

BILLING CODE 9910-04-P